UNITED STATES SENTENCING COMMISSION

Sentencing Guidelines for United States Courts

AGENCY: United States Sentencing Commission.

ACTION: Notice of extension of deadline for individuals to apply to be appointed to the membership of the Victims Advisory Group.

SUMMARY: The United States Sentencing Commission is issuing this notice to advise the public that the application period for membership in the Victims Advisory Group has been extended to November 30, 2009. The deadline was originally August 10, 2009.

This application period is extended to ensure sufficient time for any individual who has knowledge, expertise, and/or experience in the area of Federal crime victimization to apply.

SUPPLEMENTARY INFORMATION: The Victims Advisory Group of the United States Sentencing Commission is a standing advisory group of the United States Sentencing Commission pursuant to 28 U.S.C. 995 and Rule 5.4 of the Commission's Rules of Practice and Procedure. Under the charter for the Victims Advisory Group, the purpose of the advisory group is (1) to assist the Commission in carrying out its statutory responsibilities under 28 U.S.C. 994(o); (2) to provide to the Commission its views on the Commission's activities and work, including proposed priorities and amendments, as they relate to victims of crime; (3) to disseminate information regarding sentencing issues to organizations represented by the Victims Advisory Group and to other victims of crime and victims advocacy groups, as appropriate; and (4) to perform any other functions related to victims of crime as the Commission requests. Under the charter, the advisory group consists of not more than nine members, each of whom may serve not more than two consecutive three-year terms. Each member is appointed by the Commission.

In view of vacancies in the membership of the advisory group, the Commission invites any individual who has knowledge, expertise, and/or experience in the area of Federal crime victimization to apply to be appointed to the membership of the Victims Advisory Group. The Commission issued an invitation to apply for membership of the Victims Advisory Group on June 10, 2009 (74 FR 27586). Applications were initially due to the Commission on August 10, 2009. The Commission hereby invites additional applications from individuals who have knowledge, expertise, and/or experience in the area of Federal crime victimization. Applications should be received by the Commission not later than November 30, 2009. Applications may be sent to Michael Courlander at the address listed below.

DATES: Applications for membership of the Victims Advisory Group should be received not later than November 30, 2009.

ADDRESSES: Send applications to: United States Sentencing Commission, One Columbus Circle, NE., Suite 2-500, South Lobby, Washington, DC 20002-8002, Attention: Public Affairs.

FOR FURTHER INFORMATION CONTACT: Michael Courlander, Public Affairs Officer, Telephone: (202) 502-4597.

Authority: 28 U.S.C. 994(a), (o), (p), 995; USSC Rules of Practice and Procedure 5.2, 5.4.

Ricardo H. Hinojosa,
Acting Chair.

[FR Doc. E9-23574 Filed 9-29-09; 8:45 am]

BILLING CODE 2210-40-P